DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See Supplementary Information section for effective date.

FOR FURTHER INFORMATION CONTACT: OFAC: Andrea Gacki, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The Specially Designated Nationals and Blocked Persons List and additional information concerning OFAC sanctions programs are available on OFAC's website (www.treasury.gov/ofac).

Notice of OFAC Actions

On May 12, 2021, OFAC determined that the property and interests in property subject to U.S. jurisdiction of the following persons are blocked under the relevant sanctions authority listed below.

Individuals

1. GONZALEZ PENUELAS, Ignacio (Latin: GONZÁLEZ PEÑUELAS, Ignacio) (a.k.a. “GONZALEZ PENUELAS, Jose Ignacio”; a.k.a. “NACHO GONZALEZ”), Sinaloa, Mexico; DOB 31 Jul 1972; POB Sinaloa, Mexico; nationality Mexico; Gender Male; C.U.R.P. GOPI720731HSLNXG07 (Mexico) (individual) [SDNTK] (Linked To: GONZALEZ PENUELAS DRUG TRAFFICKING ORGANIZATION). Designated pursuant to section 805(b)(2) of the Kingpin Act, 21 U.S.C. 1904(b)(2), for materially assisting in, or providing financial or technological support for or to, or providing goods or services in support of, the international narcotics trafficking activities of the GONZALEZ PENUELAS DRUG TRAFFICKING ORGANIZATION, a foreign person identified as a significant foreign narcotics trafficker pursuant to the Kingpin Act.

2. GONZALEZ PENUELAS, Jesus (Latin: GONZÁLEZ PEÑUELAS, Jesús) (a.k.a. “EL CHUY GONZALEZ”), Sinaloa, Mexico; DOB 10 Nov 1969; POB Sinaloa, Mexico; nationality Mexico; Gender Male; C.U.R.P. GOPJ691110HSLNXS09 (Mexico) (individual) [SDNTK]. Identified as a significant foreign narcotics trafficker pursuant to section 805(b)(1) of the Foreign Narcotics Kingpin Designation Act (“Kingpin Act”), 21 U.S.C. 1904(b)(1).

3. GONZALEZ PENUELAS, Wilfrido (Latin: GONZÁLEZ PEÑUELAS, Wilfrido) (a.k.a. GONZALEZ PENUELAS, Wilfredo (Latin: GONZÁLEZ PEÑUELAS, Wilfredo)), Avenida Segunda numero 148, del Poblado Gallo de Limones, Guasave, Sinaloa, Mexico; DOB 14 Sep 1977; POB Guasave, Sinaloa, Mexico; nationality Mexico; Gender Male; C.U.R.P. GOPW770914HSLNXL03 (Mexico) (individual) [SDNTK] (Linked To: GONZALEZ PENUELAS DRUG TRAFFICKING ORGANIZATION). Designated pursuant to section 805(b)(2) of the Kingpin Act, 21 U.S.C. 1904(b)(2), for materially assisting in, or providing financial or technological support for or to, or providing goods or services in support of, the international narcotics trafficking activities of the GONZALEZ PENUELAS DRUG TRAFFICKING ORGANIZATION, a foreign person identified as a significant foreign narcotics trafficker pursuant to the Kingpin Act.

4. MENDIVIL FIGUEROA, Efrain, Sinaloa, Mexico; DOB 01 Feb 1980; POB Guasave, Sinaloa, Mexico; nationality Mexico; Gender Male; R.F.C. MEFE800201L2A (Mexico); C.U.R.P. MEFE800201HSLNGF04 (Mexico) (individual) [SDNTK]. Designated pursuant to section 805(b)(2) of the Kingpin Act, 21 U.S.C. 1904(b)(2), for materially assisting in, or providing financial or technological support for or to, or providing goods or services in support of, the international narcotics trafficking activities of the GONZALEZ PENUELAS DRUG TRAFFICKING ORGANIZATION, a foreign person identified as a significant foreign narcotics trafficker pursuant to the Kingpin Act.

5. NUNEZ MOLINA, Adelmo (Latin: NÚÑEZ MOLINA, Adelmo) (a.k.a. FLORES NUNEZ, Adelmo (Latin: FLORES NÚÑEZ, Adelmo)), Sinaloa, Mexico; DOB 15 Dec 1970; POB Choix, Sinaloa, Mexico; nationality Mexico; Gender Male; C.U.R.P. NUMA701215HSLXLD02 (Mexico) (individual) [SDNTK]. Designated pursuant to section 805(b)(2) of the Kingpin Act, 21 U.S.C. 1904(b)(2), for materially assisting in, or providing financial or technological support for or to, or providing goods or services in support of, the international narcotics trafficking activities of Jesus GONZALEZ PENUELAS, a foreign person identified as a significant foreign narcotics trafficker pursuant to the Kingpin Act.

6. PAYAN MERAZ, Juana, Mexico; DOB 08 Mar 1974; POB Badiraguato, Sinaloa, Mexico; nationality Mexico; Gender Female; C.U.R.P. PAMJ740308MSLYRN17 (Mexico) (individual) [SDNTK]. Designated pursuant to section 805(b)(2) of the Kingpin Act, 21 U.S.C. 1904(b)(2), for materially assisting in, or providing financial or technological support for or to, or providing goods or services in support of, the international narcotics trafficking activities of Raul PAYAN MERAZ.

7. PAYAN MERAZ, Raul, Mexico; DOB 30 Jun 1975; POB Guasave, Sinaloa, Mexico; nationality Mexico; Gender Male; C.U.R.P. PAMR750630HSLYRL06 (Mexico) (individual) [SDNTK]. Designated pursuant to section 805(b)(2) of the Kingpin Act, 21 U.S.C. 1904(b)(2), for materially assisting in, or providing financial or technological support for or to, or providing goods or services in support of, the international narcotics trafficking activities of the GONZALEZ PENUELAS DRUG TRAFFICKING ORGANIZATION, a foreign person identified as a significant foreign narcotics trafficker pursuant to the Kingpin Act.

Entities

1. CITY PLAZA, SOCIEDAD ANOMINA DE CAPITAL VARIABLE (a.k.a. CITY PLAZA, S.A. DE C.V.), Guasave, Sinaloa, Mexico; Business Registration Document # CUD: A201903242035215924 (Mexico); Folio Mercantil No. N-2019028273 (Mexico) [SDNTK]. Designated pursuant to section 805(b)(3) of the Kingpin Act, 21 U.S.C. 1904(b)(3), for being owned, controlled, or directed by, or acting for or on behalf of, a foreign person designated pursuant to the Kingpin Act, Efrain Mendivil Figueroa.

2. GONZALEZ PENUELAS DRUG TRAFFICKING ORGANIZATION (Latin: GONZÁLEZ PEÑUELAS DRUG TRAFFICKING ORGANIZATION), Sinaloa, Mexico [SDNTK]. Identified as a significant foreign narcotics trafficker pursuant to section 805(b)(1) of the Kingpin Act, 21 U.S.C. 1904(b)(1).

Dated: May 12, 2021.
Bradley T. Smith,
Acting Director, Office of Foreign Assets Control, U.S. Department of the Treasury.

[FR Doc. 2021-10300 Filed 5-14-21; 8:45 am]

BILLING CODE 4810-AL-P